FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 12039N.

Name: Caribbean Cargo Agencies, Inc. dba Intermar.

Address: 2801 NW 74th Avenue, Suite 105, Miami, FL 33122.

Date Revoked: September 4, 2002.

Reason: Failed to maintain a valid bond.

License Number: 17204N.

Name: Cargo Unlimited, Inc.

Address: 14950 Heathrow Forest Pkwy, Suite 165, Houston, TX 77032.

Date Revoked: August 8, 2002.

Reason: Surrendered license voluntarily.

License Number: 4265NF.

Name: Computrex International Services, Inc. dba Computrex Logistics.

Address: 9960 Corporate Campus Drive, Suite 1100, Louisville, KY 40223.

Date Revoked: September 14, 2002.

Reason: Failed to maintain valid bonds.

License Number: 3661N.

Name: Expressair Cargo, Inc.

Address: 11091 NW 27th Street, Miami, FL 33172.

Date Revoked: September 8, 2002.

Reason: Failed to maintain a valid bond.

License Number: 9806F.

Name: International Link Service Inc.

Address: 160-23 Rockaway Blvd., Jamaica, NY 11434.

Date Revoked: August 14, 2002.

Reason: Failed to maintain a valid bond.

License Number: 17408N.

Name: Maraly International Corp.

Address: 7206 NW 84th Avenue, Miami, FL 33166.

Date Revoked: July 7, 2002.

Reason: Failed to maintain a valid bond.

License Number: 3120NF.

Name: Meridian Cargo, Inc.

Address: 1424 NW 82nd Avenue, Miami, FL 33126.

Date Revoked: August 21, 2002.

Reason: Failed to maintain valid bonds.

License Number: 3634NF.

Name: Ocean Cargo Line, Inc. dba Total Transport International.

Address: c/o 15 Exchange Place, Suite 1020, Jersey City, NJ 07302-3912.

Date Revoked: September 14, 2002.

Reason: Failed to maintain valid bonds.

License Number: 16194F.

Name: Palumbo International Freight Forwarders, Inc.

Address: Calle Nebraska S-8, Ext. Parkville, Guaynabo, PR 00969.

Date Revoked: July 18, 2002.

Reason: Failed to maintain a valid bond.

License Number: 16981N.

Name: PK Shipping, Inc.

Address: 5707 Calverton Street, Suite 2-E, Baltimore, MD 21228.

Date Revoked: September 9, 2002.

Reason: Failed to maintain a valid bond.

License Number: 15814N.

Name: Rally Express U.S.A., Inc.

Address: 1925 W. Temple Street, Suite 109, Los Angeles, CA 90026.

Date Revoked: August 21, 2002.

Reason: Failed to maintain a valid bond.

License Number: 4327NF.

Name: Sea Expo Freight Services, Inc.

Address: 32 Somerville Road, Hewitt, NJ 07421.

Date Revoked: August 25, 2002.

Reason: Failed to maintain valid bonds.

License Number: 4350NF.

Name: Seaborne International, Inc. dba Seaborne Express Line.

Address: 11222 La Cienega Blvd., Suite 470, Inglewood, CA 90304.

Date Revoked: September 14, 2002.

Reason: Failed to maintain valid bonds.

License Number: 17111NF.

Name: Spencer Shipping Corp.

Address: 2050 NW 95th Avenue, Miami, FL 33172.

Date Revoked: August 24, 2002.

Reason: Failed to maintain valid bonds.

License Number: 12629N.

Name: T & T Shipping Services, Inc.

Address: 2546 Pitkin Avenue, Brooklyn, NY 11208.

Date Revoked: August 14, 2002.

Reason: Failed to maintain a valid bond.

License Number: 16804N.

Name: Tae Logistics, Inc.

Address: 8820 S. Sepulveda Blvd., Unit 110, Los Angeles, CA 90045.

Date Revoked: September 7, 2002.

Reason: Failed to maintain a valid bond.

License Number: 16792N.

Name: Tap-Tap Shipping, Inc.

Address: 1034 Linwood Street, Brooklyn, NY 11208.

Date Revoked: August 18, 2002.

Reason: Failed to maintain a valid bond.

License Number: 3863NF.

Name: Tera Trading Group, Inc. dba T.T.G. International Freight Forwarders.

Address: 1850 NW 82nd Avenue, Miami, FL 33126.

Date Revoked: July 6, 2002 and August 1, 2002.

Reason: Failed to maintain valid bonds.

License Number: 15797N.

Name: United Cargo Handling A/S United Cargo Lines.

Address: 478 Pennsylvania Avenue, Suite 301, Glen Ellyn, IL 60137.

Date Revoked: August 23, 2002.

Reason: Failed to maintain a valid bond.

License Number: 11962N.

Name: Universal Freightways Corp.

Address: 7500 NW 54th Street, Miami, FL 33166.

Date Revoked: May 5, 2002.

Reason: Failed to maintain a valid bond.

Sandra L. Kusumoto,
Director, Bureau of Consumer Complaints and Licensing.

[FR Doc. 02-25059 filed 10-1-02; 8:45 am]

BILLING CODE 6730-01-P